SMALL BUSINESS ADMINISTRATION

[Disaster Declaration #15045 and #15046]

Louisiana Disaster #LA-00073

AGENCY: U.S. Small Business Administration.

ACTION: Notice.

SUMMARY: This is a Notice of the Presidential declaration of a major disaster for the State of Louisiana (FEMA-4300-DR), dated 02/11/2017.

Incident: Severe Storms, Tornadoes and Straight-line Winds.

Incident Period: 02/07/2017.

Effective Date: 02/11/2017.

Physical Loan Application Deadline Date: 04/12/2017.

Economic Injury (EIDL) Loan Application Deadline Date: 11/13/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 02/11/2017, applications for disaster loans may be filed at the address listed above or other locally announced locations.

The following areas have been determined to be adversely affected by the disaster:

Primary Parishes (Physical Damage and Economic Injury Loans): Livingston, Orleans

Contiguous Parishes (Economic Injury Loans Only):

Louisiana: Ascension, East Baton Rouge, Jefferson, Plaquemines, Saint Bernard, Saint Helena, Saint Tammany, St John the Baptist, Tangipahoa

The Interest Rates are:

| Percent
For Physical Damage:
Homeowners With Credit Available Elsewhere | 3.750
Homeowners Without Credit Available Elsewhere | 1.875
Businesses With Credit Available Elsewhere | 6.300
Businesses Without Credit Available Elsewhere | 3.150
Non-Profit Organizations With Credit Available Elsewhere | 2.500
Non-Profit Organizations Without Credit Available Elsewhere | 2.500
For Economic Injury:
Businesses & Small Agricultural Cooperatives Without Credit Available Elsewhere | 3.150
Non-Profit Organizations Without Credit Available Elsewhere | 2.500

The number assigned to this disaster for physical damage is 15045B and for economic injury is 150460.

(Catalog of Federal Domestic Assistance Number 59008)

James E. Rivera,
Associate Administrator for Disaster Assistance.

[FR Doc. 2017-03242 Filed 2-16-17; 8:45 am]

BILLING CODE 8025-01-P